DEPARTMENT OF TRANSPORTATION

Coast Guard

33 CFR Part 117

[CGD07-00-134]

Drawbridge Operation Regulations; Anna Maria Bridge, Across the Gulf Intracoastal Waterway, Mile 89.2, Bradenton, FL

AGENCY: Coast Guard, DOT.

ACTION: Notice of temporary deviation from regulations.

SUMMARY: The Commander, Seventh Coast Guard District, has approved a temporary deviation from the regulations governing the operation of the Anna Maria bridge across the Gulf Intracoastal Waterway, mile 89.2, Bradenton, Florida. This temporary deviation allows the drawbridge owner or operator to open only a single leaf between 8 am and 4 pm, from January 1, 2001 through February 28, 2001. This temporary deviation is required to allow the bridge owner to safely complete repairs of the bridge.

DATES: This deviation is effective from January 1, 2001 to February 28, 2001.

FOR FURTHER INFORMATION CONTACT: Mr. Barry Dragon, Chief, Operations Section, Seventh Coast Guard District, Bridge Section at (305) 415-6743.

SUPPLEMENTARY INFORMATION: The Anna Maria bridge across the Gulf Intracoastal Waterway at Brandenton, is a double leaf bridge with a vertical clearance of 25 feet above mean high water (MHW) measured at the fenders in the closed position with a horizontal clearance of 90 feet. On December 13, 2000, Florida Department of Transportation, the drawbridge owner, requested a deviation from the current operating regulation in 33 CFR 117.5 which requires drawbridge to open promptly and fully when a request to open is given. This temporary deviation was requested to allow necessary repairs to the drawbridge in a critical time sensitive manner.

The District Commander has granted a temporary deviation from the operating requirements listed in 33 CFR 117.35 for the purpose of repair completion of the drawbridge. Under this deviation, the Anna Maria Bridge need only open one leaf from 8 am until 4 pm, from January 1, 2001 until February 28, 2001. Single leaf closures will occur intermittently during this time period.

Dated: December 21, 2000.
Greg E. Shapley,
Chief, Bridge Administration, Seventh Coast Guard District.

[FR Doc. 01-346 Filed 1-4-01; 8:45 am]

BILLING CODE 4910-15-M